DEPARTMENT OF THE TREASURY

Internal Revenue Service

26 CFR Part 1

[TD 9030]

RIN 1545-AX28

Exclusion of Gain From Sale or Exchange of a Principal Residence; Correction

AGENCY: Internal Revenue Service (IRS), Treasury.

ACTION: Correction to final regulations.

SUMMARY: This document contains corrections to final regulations that were published in the Federal Register on Tuesday, December 24, 2002 (67 FR 78358), relating to the exclusion of gain from the sale or exchange of a taxpayer's principal residence.

DATES: This correction is effective December 24, 2002.

FOR FURTHER INFORMATION CONTACT: Sara Paige Shepherd, (202) 622-4960 (not a toll-free number).

SUPPLEMENTARY INFORMATION:

Background

The final regulations that are the subject of these corrections are under section 121 of the Internal Revenue Code.

Need for Correction

As published, these final regulations contain errors that may prove to be misleading and are in need of clarification.

Correction of Publication

Accordingly, the publication of final regulations (TD 9030), that were the subject of FR Doc. 02-32281, is corrected as follows:

§ 1.121-4 [Corrected]

1. On page 78366, column 3, § 1.121-4(e), the language “(4) Example. The provisions of this” is corrected to read “(3) Example. The provisions of this”.

Cynthia E. Grigsby,
Chief, Regulations Unit, Associate Chief Counsel (Procedure and Administration).

[FR Doc. 03-3091 Filed 2-6-03; 8:45 am]

BILLING CODE 4830-01-P